DEPARTMENT OF TRANSPORTATION

Federal Transit Administration

[Docket Number: FTA-2006-23636]

Notice of Availability of Guidance on New Starts Policies and Procedures and Request for Comments

AGENCY: Federal Transit Administration (FTA), DOT.

ACTION: Notice of availability; Request for comments.

SUMMARY: This notice announces the availability of the Federal Transit Administration's (FTA's) Guidance on New Starts Policies and Procedures and requests your comments on it. The guidance explains proposed changes to the New Starts program that will become effective April 30, 2006 and longer-term changes to the New Starts program that FTA plans to be the subject of rulemaking in the future. FTA requests comments on both aspects of the guidance, which is available in DOT's electronic docket and on FTA's Web site.

DATES: Comments must be received by March 10, 2006. Late filed comments will be considered to the extent practicable.

ADDRESSES: You may submit comments [identified by DOT DMS Docket Number FTA-2006-23636] by any of the following methods:

Web site: http://dms.dot.gov. Follow the instructions for submitting comments on the DOT electronic docket site.

Fax: 202-493-2251.

Mail: Docket Management Facility; U.S. Department of Transportation, 400 Seventh Street, SW., Nassif Building, PL-401, Washington, DC 20590-0001.

Hand Delivery: Room PL-401 on the plaza level of the Nassif Building, 400 Seventh Street, SW., Washington, DC, between 9 a.m. and 5 p.m., Monday through Friday, except Federal holidays.

Instructions: You must include the agency name (Federal Transit Administration) and the docket number (FTA-2006-23636). You should submit two copies of your comments if you submit them by mail. If you wish to receive confirmation that FTA received your comments, you must include a self-addressed stamped postcard. Note that all comments received will be posted without change to the Department's Docket Management System (DMS) Web site located at http://dms.dot.gov. This means that if your comment includes any personal identifying information, such information will be made available to users of DMS.

FOR FURTHER INFORMATION CONTACT: Ron Fisher, Office of Planning and Environment, telephone (202) 366-4033, Federal Transit Administration, U.S. Department of Transportation, 400 Seventh Street, SW., Washington, DC 20590 or Ron.Fisher@fta.dot.gov.

SUPPLEMENTARY INFORMATION:

1. Background

On August 10, 2005, President Bush signed the Safe, Accountable, Flexible, and Efficient Transportation Equity Act—A Legacy for Users (SAFETEA-LU). Section 3011 of SAFETEA-LU made a number of changes to 49 U.S.C. 5309, which authorizes the FTA's fixed guideway capital investment program known as “New Starts.” This notice announces the availability of FTA's Guidance on New Starts Policies and Procedures and requests your comment as described below. The document is available in the docket, which can be accessed by going to http://dms.dot.gov at any time, or you can view the document on FTA's Web site at http://www.fta.dot.gov/15052_ENG_HTML.htm.

A. New Starts Program Changes To Be Effective April 30, 2006

The first purpose of the policy guidance is to solicit comments on and document the changes to FTA's New Starts project development and program management procedures that are proposed to become effective on April 30, 2006. The changes apply to all New Starts submittals received after that date and prior to the effective date of future New Starts rulemaking. The proposed improvements to the project review and evaluation process and criteria include: National Environmental Policy Act interfaces; preservation of information for the before and after study; certification of technical methods, planning assumptions and project development procedures; development of costs and ridership forecasts; project development agreements; setting the New Starts maximum dollar funding level at the time of final design approval; and use of mode specific constants. Comments received will be used to develop the New Starts ratings, evaluations and procedures which will be issued in Spring 2006. FTA will respond to comments received on this Notice in a second Federal Register notice to be published after the close of the comment period, which will announce the availability of the Reporting Instructions for the Section 5309 New Starts Criteria reflecting the changes implemented as a result of this policy guidance and comments received thereon.

B. Long-term New Starts Program Changes for Future Rulemaking

The second purpose of the policy guidance is to discuss various New Starts implementation issues relating to SAFETEA-LU, discuss the merits of alternative approaches, and solicit input, through a series of questions, on the options that FTA is considering. Issues discussed include project eligibility; project evaluation and ratings; and project development procedures. Comments received will be considered and addressed in future rulemaking for the New Starts program, which FTA hopes to initiate later in 2006.

Issued in Washington, DC, this 12th day of January 2006.
David B. Horner,
Chief Counsel.

[FR Doc. E6-563 Filed 1-18-06; 8:45 am]

BILLING CODE 4910-57-P